DEPARTMENT OF THE INTERIOR

Office of the Secretary

[22XDO120AF/DT64101100/DSB4A0000.T7AC00.241A; OMB Control Number 1035-0003]

Agency Information Collection Activities; Tribal Enrollment Count

AGENCY: Bureau of Trust Funds Administration, Interior.

ACTION: Notice of information collection; request for comment.

SUMMARY: In accordance with the Paperwork Reduction Act of 1995, we, the Bureau of Trust Funds Administration (BTFA, formerly known as the Office of the Special Trustee for American Indians), are proposing to renew an information collection.

DATES: Interested persons are invited to submit comments on or before August 8, 2022.

ADDRESSES: Send your comments on this information collection request (ICR) by mail to Nina Alexander, Director, Federal Information Resources, Bureau of Trust Funds Administration, U.S. Department of the Interior, 4400 Masthead Street NE, Albuquerque, New Mexico 87109; or by email to Nina_Alexander@btfa.gov. Please reference Office of Management and Budget (OMB) Control Number 1035-0003 in the subject line of your comments.

FOR FURTHER INFORMATION CONTACT: To request additional information about this ICR, contact Nina Alexander, Director, Federal Information Resources, Bureau of Trust Funds Administration at 4400 Masthead Street NE, Albuquerque, NM 87109; or by email at Nina_Alexander@btfa.gov or via telephone at 505-273-1620. You may also view the ICR at https://www.reginfo.gov/public/do/PRAMain. Individuals in the United States who are deaf, deafblind, hard of hearing, or have a speech disability may dial 711 (TTY, TDD, or Tele Braille) to access telecommunications relay services. You may also view the ICR at http://www.reginfo.gov/public/do/PRAMain.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Public Law 103-412, The American Indian Trust Fund Management Reform Act of 1994 (the Act), allows Indian Tribes on a voluntary basis to take their funds out of trust status within the Department of the Interior (and the Federal Government) in order to manage such funds on their own. 25 CFR part 1200, subpart B, Sec. 1200.13, “How does a Tribe apply to withdraw funds?” describes the requirements for application for withdrawal. The Act covers all tribal trust funds including judgment funds as well as some settlements funds, but excludes funds held in Individual Indian Money accounts. Both the Act and the regulations state that upon withdrawal of the funds, the Department of the Interior (and the Federal Government) have no further liability for such funds. Accompanying their application for withdrawal of trust funds, Tribes are required to submit a Management Plan for managing the funds being withdrawn, to protect the funds once they are out of trust status.

This information collection allows the BTFA to collect the Tribes' applications for withdrawal of funds held in trust by the Department of the Interior. If BTFA did not collect this information, the BTFA would not be able to comply with the Act, and Tribes would not be able to withdraw funds held for them in trust by the Department of the Interior.

Title of Collection: Application to Withdraw Tribal Funds from Trust Status, 25 CFR 1200.

OMB Control Number: 1035-0003.

Form Number: None.

Type of Review: Extension of a currently approved collection.

Respondents/Affected Public: Tribal governments.

Total Estimated Number of Annual Respondents: One respondent, on average, every three years.

Total Estimated Number of Annual Responses: 1.

Estimated Completion Time per Response: 750 hours.

Total Estimated Number of Annual Burden Hours: 750 hours.

Respondent's Obligation: Required to Obtain or Retain a Benefit.

Frequency of Collection: Once per Tribe per trust fund withdrawal application.

Total Estimated Annual Non-Hour Burden CBTFA: None.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2022-12075 Filed 6-8-22; 8:45 am]

BILLING CODE 4337-15-P